DEPARTMENT OF THE INTERIOR

Bureau of Indian Affairs

[256A2100DD/AAKC001030/A0A501010.999900]

Acceptance of Retrocession of Jurisdiction for the Skokomish Nation

AGENCY: Bureau of Indian Affairs, Interior.

ACTION: Notice.

SUMMARY: The Department of the Interior (Department) has accepted retrocession to the United States of partial criminal jurisdiction over the Skokomish Nation from the State of Washington.

DATES: The Department accepted retrocession on November 20, 2024. Complete implementation of jurisdiction will be effective May 27, 2025.

FOR FURTHER INFORMATION CONTACT: Mr. R. Glen Melville, Deputy Director—Office of Justice Services, Bureau of Indian Affairs (202) 208-5787.

SUPPLEMENTARY INFORMATION: Pursuant to the authority in 25 U.S.C. 1323 vested in the Secretary of the Interior by Executive Order No. 11435 of November 21, 1968 (33 FR 17339) and re-delegated to the Assistant Secretary—Indian Affairs by part 209 chapter 8 of the Department of the Interior Departmental Manual, the United States accepts retrocession of partial criminal jurisdiction over the Skokomish Nation, which was acquired by the State of Washington pursuant to Public Law 83-280, 67 Stat. 588, 18 U.S.C. 1162, 28 U.S.C. 1360 and as provided in the Revised Code of Washington sections 37.12.010, 37.12.021, 37.12.030, 37.12.040, 37.12.050 (1957), and 37.12.060 (1963).

The Tribe requested and the State of Washington offered, pursuant to the Revised Code of Washington sections 37.12.100-.120 and 37.12.180 and Governor Mike Lowry's October 19, 1994, proclamation to partially retrocede criminal jurisdiction over certain criminal acts committed by Indians occurring on tribal or allotted lands within the exterior boundaries of the Skokomish Nation Reservation and held in trust by the United States, or subject to a restriction against alienation imposed by the United States. The State of Washington retains partial criminal jurisdiction over the Skokomish Nation Reservation as provided in the Revised Code of Washington Section 37.12.010, including over the eight enumerated categories of offenses committed by Indians on trust or allotted lands within the Reservation, over non-Indians, and over civil matters.

This retrocession was offered by proclamation from the Governor of the State of Washington Mike Lowry, signed on October 19, 1994, revoking and superseding the July 13, 1957, proclamation, and transmitted to the Assistant Secretary—Indian Affairs in accordance with the process in Revised Code of Washington sections 37.12.100-.120, and as provided by Skokomish Tribal Council Resolution No. 94-73, dated June 9, 1994, in which the Skokomish Nation requested that the State of Washington retrocede criminal jurisdiction to the Tribe.

Bryan Newland,
Assistant Secretary—Indian Affairs.

[FR Doc. 2024-27619 Filed 11-25-24; 8:45 am]

BILLING CODE 4337-15-P